LEGAL SERVICES CORPORATION

Sunshine Act Meeting of the Board of Directors

Time and Date: The Finance Committee (“Committee”) of the Legal Services Corporation (“LSC”) Board of Directors will meet on September 30, 2005. The meeting will begin at 9 a.m., and continue until conclusion of the Committee's business.

Location: 3333 K Street, NW., Washington, DC 20007, 3rd Floor Conference Room.

Status of Meeting: Open.

Matters To Be Considered:

1. Approval of agenda.

2. Approval of the minutes of the Committee's meeting of July 28, 2005.

3. Presentation of LSC's Eleven-Month Financial Report (through August 31, 2005).

4. Report on Status of LSC's FY 2006 Appropriation.

5. Presentation of the Justice Gap Report.

6. Consider and Act on LSC's FY 2007 Budget Request.

a. Presentation by ABA.

b. Presentation by NLADA.

c. Presentation by LSC Management.

d. Other Public Comment.

7. Consider and act on other business.

8. Consider and act on adjournment of meeting.

FOR FURTHER INFORMATION CONTACT: Patricia Batie, Manager of Board Operations at (202) 295-1500.

Special Needs: Upon request, meeting notices will be made available in alternate formats to accommodate visual and hearing impairments. Individuals who have a disability and need an accommodation to attend the meeting may notify Patricia Batie at (202) 295-1500.

Dated: September 21, 2005.
Victor M. Fortuno,
Vice President for Legal Affairs, General Counsel & Corporate Secretary.

[FR Doc. 05-19097 Filed 9-21-05;8:53 am]

BILLING CODE 7050-01-P